DEPARTMENT OF DEFENSE

Department of the Air Force

Notice of Availability of Software and Documentation for Licensing

AGENCY: Department of the Air Force, Department of Defense.

ACTION: Availability of Memory Visualization software and documentation for licensing.

SUMMARY: The Department of the Air Force announces the availability of Memory Visualization software and related documentation, which aids digital forensics examinations of computing device memory captures for user and malware identification.

ADDRESSES: Licensing interests should be sent to: Air Force Institute of Technology, Office of Research and Technology Applications, AFIT/ENR, 2950 Hobson Way, Building 641, Rm. 101c, Wright-Patterson AFB, OH 45433; Facsimile: (937) 656-7139.

FOR FURTHER INFORMATION CONTACT: Air Force Institute of Technology, Office of Research and Technology Applications, AFIT/ENR, 2950 Hobson Way, Building 641, Rm. 101c, Wright-Patterson AFB, OH 45433; Facsimile: (937) 656-7139, or Mr. Jeff Murray, (937) 255-3636, Ext. 4665.

SUPPLEMENTARY INFORMATION: One major challenge facing digital forensics practitioners is the complicated task of acquiring an understanding of the digital data residing in electronic devices. Currently, this task requires significant experience and background to aggregate the data their tools provide from the digital artifacts. Most of the tools available present their results in text files or tree lists. It is up to the practitioner to mentally capture a global understanding of the state of the device at the time of seizure and find the items of evidentiary interest.

The Memory Visualization software applies Information Visualization techniques to improve the analysis of digital forensic evidence from Operating System memory captures. This visualization tool presents both global and local views of the evidence based on user interactions with the graphics. The visualization also maintains connection to the data behind the visualization so that the practitioner can verify manually. The resulting visualizations provide the necessary details for verifying digital artifacts and assists in locating additional items of relevance.

This notice is pursuant to the provisions of Section 801 of Public Law 113-66 (2014 National Defense Authorization Act).

Henry Williams,
Acting Air Force Federal Register Liaison Officer.

[FR Doc. 2018-18731 Filed 8-28-18; 8:45 am]

BILLING CODE 5001-10-P